DEPARTMENT OF THE INTERIOR

Fish and Wildlife Service

Notice of Availability of the Draft Recovery Plan for the Star Cactus (Astrophytum asterias)

AGENCY: Fish and Wildlife Service, Interior.

ACTION: Notice of document availability.

SUMMARY: The U.S. Fish and Wildlife Service (Service) announces the availability for public review of the Draft Recovery Plan for the Star Cactus (Astrophytum asterias). The star cactus is known to occur on one private land site in Starr County, Texas. Additional populations may be found in Tamaulipas, Mexico. The Service solicits review and comment from the public on this draft plan.

DATES: The comment period for this Draft Recovery Plan closes November 18, 2002. Comments on the Draft Recovery Plan must be received by the closing date.

ADDRESSES: Persons wishing to review the Draft Recovery Plan can obtain a copy from the U.S. Fish and Wildlife Service, Corpus Christi Ecological Services Field Office, c/o TAMUCC, 6300 Ocean Drive, Box 338, Corpus Christi, Texas, 78412. Comments and materials concerning this Draft Recovery Plan may be sent to “Field Supervisor” at the address above.

FOR FURTHER INFORMATION CONTACT: Loretta Pressly, Corpus Christi Ecological Services Field Office, at the above address; telephone (361) 994-9005, facsimile (361) 994-8262.

SUPPLEMENTARY INFORMATION:

Background

The star cactus (Astrophytum asterias) was listed as endangered on October 18, 1993, under authority of the Endangered Species Act of 1973, as amended. The threats facing the survival and recovery of this species include: habitat destruction through conversion of native habitat to agricultural land and increased urbanization; competition with exotic invasive species; genetic vulnerability due to low population numbers; and collecting pressures for cactus trade. The Draft Recovery Plan includes information about the species and provides objectives and actions needed to downlist, then delist the species. Recovery activities designed to achieve these objectives include; protecting known populations; searching for additional populations; performing outreach activities to educate the general public on the need for protection; establishing additional populations through reintroduction in the known range of the plant.

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S.C. 1531 et seq.) requires the development of recovery plans for listed species unless such a plan would not promote the conservation of a particular species. Section 4(f) of the Act, as amended in 1988, requires that public notice and an opportunity for public review and comment be provided during recovery plan development. The Service will consider all information presented during a public comment period prior to approval of each new or revised recovery plan. The Service and other Federal agencies will also take these comments into account in the course of implementing recovery plans.

The Star Cactus Draft Recovery Plan is being submitted for technical and agency review. After consideration of comments received during the review period, the recovery plan will be submitted for final approval.

Public Comments Solicited

The Service solicits written comments on the recovery plan described. All comments received by the date specified above will be considered prior to approval of the recovery plan.

Authority

The authority for this action is section 4(f) of the Endangered Species Act, 16 U.S.C. 1533(f).

Dated: September 10, 2002.
Bryan Arroyo,
Acting Regional Director, Region 2.

[FR Doc. 02-26376 Filed 10-16-02; 8:45 am]

BILLING CODE 4310-55-P